Title 3—

The President

Proclamation 7521 of February 1, 2002

American Heart Month, 2002

By the President of the United States of America

A Proclamation

A new era in the prevention and treatment of cardiovascular diseases has created renewed hope for those suffering from heart-related disorders. Anticoagulant drugs and other technologically innovative artery-opening treatments, like angioplasty, are enabling doctors to better treat cardiovascular problems in their early stages. Armed with the knowledge that lifestyle plays a significant role in the prevention of heart disease, more and more Americans have recognized the importance of not smoking, getting regular exercise, and maintaining a healthy diet.

Despite these advances, cardiovascular disease, including heart disease and stroke, remains the leading cause of death in the United States and greatly increases disability among Americans. This year, cardiovascular disease will be the primary or contributing cause in about 60 percent of all deaths and will cost our Nation more than $330 billion in lost wages, diminished productivity, and medical expenses. It is a little known fact that heart disease is the leading cause of death among women, with over 370,000 deaths every year.

According to the Archives of Internal Medicine, most heart attack patients wait more than 2 hours before seeking emergency care, primarily because they do not recognize the symptoms of a heart attack. Delayed awareness of the onset of a heart attack means that only one in five heart attack victims gets to the hospital quickly enough to benefit from life-saving medical treatments.

Fortunately, many new public-private partnerships are working to educate Americans about the warning signs of a heart attack and the need for rapid response. The National Heart, Lung, and Blood Institute and the American Heart Association have recently joined with other national organizations to sponsor a campaign called “Act in Time to Heart Attack Signs.” This public awareness initiative emphasizes preventing heart attacks, recognizing sometimes subtle heart attack symptoms, and immediately calling 911 when those symptoms first appear.

The AHA has developed an educational campaign, “Operation Heartbeat,” that focuses on reducing sudden deaths from cardiac arrest. Cardiac arrest, an abnormal heart rhythm that stops the heart from effectively pumping blood through the body, usually results in death within 10 to 14 minutes. Currently, only about five percent of those who experience sudden cardiac arrest survive. Operation Heartbeat is educating the public about the signs of cardiac arrest, reinforcing the importance of calling 911 immediately and promoting the benefits of knowing and administering cardiopulmonary resuscitation, until advanced care can be given to restore a normal heartbeat.

At this observance of American Heart Month, we pay tribute to the researchers, physicians, and other health professionals, public education professionals, and volunteers for their tireless efforts in preventing, treating, and researching heart disease. We recognize the critical importance of developing tools that will increase survival rates from heart attacks and cardiac arrest. By incorporating these new tools into aggressive education programs and partnerships, we can save tens of thousands of lives annually.

In recognition of the important needs in the ongoing fight against cardiovascular disease, the Congress, by Joint Resolution approved December 30, 1963, as amended (77 Stat. 843; 36 U.S.C. 101), has requested that the President issue an annual proclamation designating February as “American Heart Month.”

NOW, THEREFORE, I, GEORGE W. BUSH, President of the United States of America, by virtue of the authority vested in me by the Constitution and laws of the United States, do hereby proclaim February 2002 as American Heart Month. I invite the Governors of the States, the Commonwealth of Puerto Rico, officials of other areas subject to the jurisdiction of the United States, and the American people to join me in reaffirming our commitment to combating cardiovascular disease and stroke.

IN WITNESS WHEREOF, I have hereunto set my hand this first day of February, in the year of our Lord two thousand two, and of the Independence of the United States of America the two hundred and twenty-sixth.

B

[FR Doc. 02-3000

Filed 2-5-02; 8:45 am]

Billing code 3195-01-P